DEPARTMENT OF TRANSPORTATION

Saint Lawrence Seaway Development Corporation

33 CFR Part 401

[Docket No. SLSDC-2009-0002]

RIN 2135-AA28

Seaway Regulations and Rules: Periodic Update, Various Categories

AGENCY: Saint Lawrence Seaway Development Corporation, DOT.

ACTION: Notice of proposed rulemaking.

SUMMARY: The Saint Lawrence Seaway Development Corporation (SLSDC) and the St. Lawrence Seaway Management Corporation (SLSMC) of Canada, under international agreement, jointly publish and presently administer the St. Lawrence Seaway Regulations and Rules (Practices and Procedures in Canada) in their respective jurisdictions. Under agreement with the SLSMC, the SLSDC is amending the joint regulations by updating the Seaway Regulations and Rules in various categories. The proposed changes will update the following sections of the Regulations and Rules: Condition of Vessels; Seaway Navigation, Toll Assessment and Payment; Information and Reports; and Navigation Closing Procedures. These proposed amendments are necessary to take account of updated procedures and will enhance the safety of transits through the Seaway. Several of the proposed amendments are merely editorial or for clarification of existing requirements.

DATES: Any party wishing to present views on the proposed amendment may file comments with the Corporation on or before April 13, 2009.

ADDRESSES: You may submit comments [identified by Docket Number SLSDC 2009-0002] by any of the following methods:

• Web Site: http://www.Regulations.gov. Follow the online instructions for submitting comments/submissions.

• Fax: 1-202-493-2251.

• Mail: Docket Management Facility; U.S. Department of Transportation, 1200 New Jersey Avenue, SE., West Building Ground Floor, Room W12-140, Washington, DC 20590-001.

• Hand Delivery: Documents may be submitted by hand delivery or courier to West Building Ground Floor, Room W12-140, 1200 New Jersey Avenue, SE., Washington, DC, between 9 a.m. and 5 p.m., Monday through Friday, except Federal Holidays.

Instructions: All submissions must include the agency name and docket number or Regulatory Identification Number (RIN) for this rulemaking. Note that all comments received will be posted without change at http://www.Regulations.gov including any personal information provided. Please see the Privacy Act heading under Regulatory Notices.

Docket: For access to the docket to read background documents or comments received, go to http://www.Regulations.gov; or in person at the Docket Management Facility; U.S. Department of Transportation, 1200 New Jersey Avenue, SE., West Building Ground Floor, Room W12-140, 1200 New Jersey Avenue, SE., Washington, DC, between 9 a.m. and 5 p.m., Monday through Friday, except Federal Holidays.

FOR FURTHER INFORMATION CONTACT: Carrie Mann Lavigne, Chief Counsel, Saint Lawrence Seaway Development Corporation, 180 Andrews Street, Massena, New York 13662; 315/764-3200.

SUPPLEMENTARY INFORMATION: The Saint Lawrence Seaway Development Corporation (SLSDC) and the St. Lawrence Seaway Management Corporation (SLSMC) of Canada, under international agreement, jointly publish and presently administer the St. Lawrence Seaway Regulations and Rules (Practices and Procedures in Canada) in their respective jurisdictions. Under agreement with the SLSMC, the SLSDC is proposing to amend the joint regulations by updating the Regulations and Rules in various categories. The proposed changes would update the following sections of the Regulations and Rules: Condition of Vessels; Seaway Navigation, Toll Assessment and Payment; Information and Reports; and Navigation Closing Procedures. These updates are necessary to take account of updated procedures which will enhance the safety of transits through the Seaway. Many of these proposed changes are to clarify existing requirements in the regulations. Where new requirements or regulations are being proposed, an explanation for such a change is provided below.

Regulatory Notices: Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://www.Regulations.gov.

The SLSDC is proposing to amend 5 sections of the Condition of Vessels portion of the joint Seaway regulations. Under section 401.7, “Fenders”, the SLSDC is proposing to require that vessels be equipped with only horizontal fenders. Vessels that are equipped with diagonal fenders cause severe damage to the guide wall wooden and rubber fendering. Section 401.8, “Landing booms”, is being revised to allow only the use of synthetic mooring lines which are safer for personnel handling the lines than are heavy wires. Several changes are being made to section 401.10, “Mooring lines”, to improve safety for ship and lock crews and to reduce user costs from the use of wire lines. These proposed amendments would set specific requirements for each mooring line that would ensure that safety is maintained through proper use of appropriate strength wire specific to ship size. These changes are being proposed based on tests conducted by the SLSMC in conjunction with relevant stakeholders during the 2007 and 2008 navigation seasons. In section 401.11, “Fairleads”, amendments are being proposed that will reduce user costs while maintaining proper safe mooring arrangements for wires.

Under section 401.12, “Minimum requirements—mooring lines and fairleads”, the SLSDC is proposing to make several changes to the minimum requirements based on ship size that will better reflect new safety and efficiency allowances in conjunction with clarifying the use of individual winches per line. In section 401.97, “Closing procedures”, two amendments are being proposed. The heading will be revised to read “Closing procedures and ice navigation”. Where transits of certain vessels are restricted during ice conditions, transits between CIP15 and CIP of the Welland Canal will also be restricted under the second proposed amendment. The other changes to the joint regulations are merely editorial or to clarify existing requirements.

Regulatory Evaluation

This proposed regulation involves a foreign affairs function of the United States and therefore Executive Order 12866 does not apply and evaluation under the Department of Transportation's Regulatory Policies and Procedures is not required.

Regulatory Flexibility Act Determination

I certify this proposed regulation will not have a significant economic impact on a substantial number of small entities. The St. Lawrence Seaway Regulations and Rules primarily relate to commercial users of the Seaway, the vast majority of whom are foreign vessel operators. Therefore, any resulting costs will be borne mostly by foreign vessels.

Environmental Impact

This proposed regulation does not require an environmental impact statement under the National Environmental Policy Act (49 U.S.C. 4321, et reg.) because it is not a major federal action significantly affecting the quality of the human environment.

Federalism

The Corporation has analyzed this proposed rule under the principles and criteria in Executive Order 13132, dated August 4, 1999, and has determined that this proposal does not have sufficient federalism implications to warrant a Federalism Assessment.

Unfunded Mandates

The Corporation has analyzed this proposed rule under Title II of the Unfunded Mandates Reform Act of 1995 (Pub. L. 104-4, 109 Stat. 48) and determined that it does not impose unfunded mandates on State, local, and tribal governments and the private sector requiring a written statement of economic and regulatory alternatives.

Paperwork Reduction Act

This proposed regulation has been analyzed under the Paperwork Reduction Act of 1995 and does not contain new or modified information collection requirements subject to the Office of Management and Budget review.

List of Subjects in 33 CFR Part 401

Hazardous materials transportation, Navigation (water), Penalties, Radio, Reporting and recordkeeping requirements, Vessels, Waterways.

Accordingly, the Saint Lawrence Seaway Development Corporation proposes to amend 33 CFR part 401, Regulations and Rules, as follows:

PART 401—SEAWAY REGULATIONS AND RULES

Subpart A—Regulations

1. The authority citation for subpart A of part 401 continues to read as follows:

Authority: 33 U.S.C. 983(a) and 984(a)(4), as amended; 49 CFR 1.52, unless otherwise noted.

2. In § 401.7 revise paragraph (a) introductory text to read as follows:

§ 401.7 Fenders.

(a) Where any structural part of a vessel protrudes so as to endanger Seaway installations, the vessel shall be equipped with only horizontal permanent fenders—

* * * * *

3. In § 401.8 revise paragraph (c) to read as follows:

§ 401.8 Landing booms.

* * * * *

(c) Vessels not equipped with or not using landing booms must use the Seaway's tie-up service at approach walls using synthetic mooring lines only.

4. In § 401.10, paragraphs (a)(2), (a)(6), (b), and (d) are revised as follows:

§ 401.10 Mooring lines.

(a) * * *

(2) Have a diameter not greater than 28 mm for wire line and not greater than 60 mm for approved synthetic lines;

* * * * *

(6) Be certified and a test certificate for each mooring line containing information on breaking strength, material type, elongation and diameter shall be available onboard for inspection.

(b) Unless otherwise permitted by an officer, vessels greater than 130m shall only use wire mooring lines with a breaking strength that complies with the minimum specifications set out in the table in this section for securing a vessel in lock chambers.

* * * * *

(d) Notwithstanding paragraphs (a) through (c) of this section, nylon line is not permitted.

Table
Overall length of ships | Length of mooring line (m) | Breaking strength (MT)
40 m or more but not more than 60 m | 110 | 10
more than 60 m but not more than 90 m | 110 | 15
more than 90 m but not more than 120 m | 110 | 20
more than 120 m but not more than 180 m | 110 | 28
more than 180 m but not more than 222.5 m | 110 | 35
Elongation of synthetic lines shall not exceed 20%

5. In § 401.11:

a. Redesignate paragraphs (a) through (c) as paragraphs (a)(1) through (a)(3);

b. Redesignate the introductory paragraph as paragraph (a) introductory text;

c. Revise newly redesignated paragraphs (a)(1) and (a)(2); and

d. Add a new paragraph (b).

The revisions and additions read as follows:

§ 401.11 Fairleads.

(a) * * *

(1) Be led at the vessel's side through a type of fairlead or closed chock, acceptable to the Manager and Corporation;

(2) Pass through not more than three inboard rollers that are fixed in place and equipped with horns to ensure that lines will not slip off when slackened and provided with free-running sheaves or rollers; and

* * * * *

(b) Wire lines shall only be led through approved roller type fairleads.

6. Revise § 401.12 to read as follows:

§ 401.12 Minimum requirements—mooring lines and fairleads.

(a) Unless otherwise permitted by the officer the minimum requirements in respect of mooring lines which shall be available for securing on either side of the vessels, winches and the location of fairleads on vessels are as follows:

(1) Ships of 100 m or less in overall length shall have at least three mooring lines—wires or synthetic hawsers, two of which shall be independently power operated and one if synthetic, of which may be hand held;

(i) One line shall lead forward from the break of the bow and one line shall lead astern from the quarter and be independently power operated by winches, capstans or windlasses and lead through closed chocks or fairleads acceptable to the Manager and the Corporation; and

(ii) One synthetic hawser shall be hand held and lead astern from the break of the bow through chocks to suitable mooring bitts on deck;

(2) Ships of more than 100 m but not more than 130 m in overall length shall have three mooring lines—wires or synthetic hawsers, which shall be independently power operated by winches, capstans or windlasses. All lines shall be led through closed chocks or fairleads acceptable to the Manager and the Corporation. One shall lead forward and one shall lead astern from the quarter and all three lines shall be independently power operated;

(3) Ships of more than 130 m in overall length shall have four mooring lines—wires, independently power operated by the main drums of adequate power operated winches as follows:

(i) One mooring line shall lead forward and one mooring line shall lead astern from the break of the bow and shall be independently power operated by the main drums of adequate power operated winches; and

(ii) One mooring line shall lead forward and one mooring line shall lead astern from the quarter and shall be independently power operated by the main drums of adequate power operated winches.

(4) All lines shall be led through a type of fairlead acceptable to the Manager and the Corporation.

(b) Unless otherwise permitted by the officer the following table sets out the requirements for the location of fairleads or closed chocks for ships of 100 m or more in overall length:

Table
Overall length of ships | For mooring lines Nos. 1 and 2 | For mooring lines Nos. 3 and 4
100 m or more but not more than 180 m | Shall be at a location on the ship side where the beam is at least 90% of the full beam of the vessel | Shall be at a location on the ship side where the beam is at least 90% of the full beam of the vessel.
more than 180 m but not more than 222.5m | Between 20 m & 50 m from the stem | Between 20 m & 50 m from the stern.

7. Revise § 401.38 to read as follows:

§ 401.38 Limit of approach to a lock.

A vessel approaching a lock shall comply with directions indicated by the signal light system associated with the lock and in no case shall its stem pass the designated limit of approach sign while a red light or no light is displayed.

8. In § 401.75, add a new paragraph (c) to read as follows:

§ 401.75 Payment of tolls.

* * * * *

(c) Fees for Seaway arranged security guard in compliance with Transport Canada Security regulations shall be paid in Canadian funds within 30 days of billing.

9. In § 401.81 paragraph (a) is revised to read as follows:

§ 401.81 Reporting an accident.

(a) Where a vessel on the Seaway is involved in an accident or a dangerous occurrence, the master of the vessel shall report the accident or occurrence, pursuant to the requirements of the Transportation Safety Board Regulations, to the nearest Seaway station and Transport Canada Marine Safety or U.S. Coast Guard office as soon as possible and prior to departing the Seaway system.

* * * * *

10. In § 401.96 paragraph (e) is revised to read as follows:

§ 401.96 Definitions.

* * * * *

(e) Wintering vessel means a vessel that enters the Seaway upbound after a date designated each year by the Corporation and the Manager and transits above Iroquois Lock.

11. In § 401.97, the heading and paragraphs (f) introductory text and (f)(2) are revised to read as follows:

§ 401.97 Closing procedures and ice navigation.

* * * * *

(f) Where ice conditions restrict navigation,

* * * * *

(2) No downbound vessel that has a power to length ratio of less than 15:1 (kW/meter) and a forward draft of less than 25 dm shall transit between the St. Lambert Lock and the Iroquois Lock of the Montreal-Lake Ontario Section of the Seaway and CIP 15 and CIP 16 of the Welland Canal.

Issued at Washington, DC, on March 2, 2009.
Saint Lawrence Seaway Development Corporation.
Collister Johnson, Jr.,
Administrator.

[FR Doc. E9-4929 Filed 3-11-09; 8:45 am]

BILLING CODE 4910-61-P